DEPARTMENT OF THE INTERIOR

Bureau of Land Management

[NV-023-1232-EA-NV06; Special Recreation Permit #NV-023-00-03]

Nevada: Emergency Closure of Certain Public Lands in the Winnemucca District for the Management of Lands and Activities Located In and Around the Burning Man Event Site, Pershing County, NV

AGENCY: Bureau of Land Management, Interior.

ACTION: Closures and restrictions of public lands in Washoe and Pershing Counties.

SUMMARY: Certain lands would be temporarily closed on an emergency basis, in the Winnemucca District, Pershing and Washoe Counties, Nevada, to public use from 6 a.m., August 28 to 12 pm, September 6, 2000. This emergency closure is being made in the interest of public safety in relation to an authorized Burning Man Event airstrip south and southwest of the Burning Man site, at and around the public lands location of an event known as the Burning Man Festival. This event is expected to attract at least 28,000 participants this year, with a certain percentage of clientele arriving by aircraft and landing on the authorized airstrip. All other temporary closures and prohibitions as previously published in the Federal Register for this location remain in effect. The lands involved are located in the Mount Diablo Meridian and located northeast of Gerlach, Nevada.

The “Middle Track” and “East Track” that lead out from the “First Exit/Entrance” (“3-Mile”) to the playa areas east and west of the Burning Man site, from the Burning Man site east to the Union Pacific Railroad Tracks, and the entire Southern end of the playa southwest of Burning Man will be closed public use during the Burning Man event period, 6 a.m., August 28 to 12 pm, September 6, 2000, with the exception of BLM personnel, law enforcement and emergency medical services, and authorized Burning Man staff. The “tracks” are those sunken roadways or trackways on the Black Rock Desert playa that traverse the length of the playa “west arm.” The affected playa lands southwest to northeast are:

T32N, R23E,

Sec. 1; Sec. 2; Sec. 3; Sec. 11; Sec. 12; Sec. 13; Sec. 14.

T33N, R23E,

Sec. 25; Sec. 26; Sec. 34; Sec. 35; Sec. 36.

T32N, R24E,

Sec. 5; Sec. 6.

T33N, R24E,

Sec. 1; Sec. 2; Sec. 3 ; Sec. 4; Sec. 5; Sec 8; Sec. 9; Sec. 10; Sec. 11; Sec. 12; Sec. 13; Sec. 14; Sec. 15; Sec. 16; Sec. 17; Sec. 18; Sec 19; Sec. 20; Sec. 21; Sec. 22; Sec. 28; Sec. 29; Sec. 30; Sec. 31; Sec. 32.

T33, R25E,

Sec. 2; Sec. 3; Sec. 4.

The 3-Mile (First Exit/Entrance) will be closed during the Burning Man event period, August 28, 2000 to September 4, 2000, with the exception of BLM personnel, law enforcement and emergency medical services, and authorized Burning Man staff. The affected lands are:

T33N, R23E,

Sec. 35, NW¼ of the SW¼.

A map showing the temporary closure area is available from the following BLM office: BLM-Winnemucca Field Office, 5100 East Winnemucca Blvd., Winnemucca, Nevada 89445.

FOR FURTHER INFORMATION CONTACT: Michael Bilbo, Outdoor Recreation Planner, or Les Boni, Assistant manager, Non-Renewable Resources, at (775) 623-1500, or write to: BLM-Winnemucca Field Office, 5100 East Winnemucca Blvd., Winnemucca, Nevada 89445. A map showing the temporary closure area is available from the following BLM office: Winnemucca Field Office, 5100 East Winnemucca Blvd., Winnemucca, Nevada 89445, (775) 623-1500. BLM contact person is Michael Bilbo at above address and phone.

Authority: 43 CFR part 8340, 43 CFR subpart 8341, 43 CFR subpart 8341.2, 43 CFR part 8360, 43 CFR subpart 8364.

Penalty: Any person failing to comply with the closure orders may be subject to imprisonment for not more than 12 months, or a fine in accordance with the applicable provisions of 18 U.S.C. 3571, or both. Any person who fails to comply with this closure notice issued under 43 CFR, part 8364, may be subject to the penalties provided for in 43 CFR 8360.0-7.

Dated: August 25, 2000.
Terry Reed,
Field Manager, Winnemucca Field Office.

[FR Doc. 00-23084 Filed 9-7-00; 8:45 am]

BILLING CODE 4310-HC-P